FEDERAL MARITIME COMMISSION

Ocean Transportation Intermediary License Applicants

The Commission gives notice that the following applicant has filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

NTL Naigai Trans Line (USA) Inc. (NVO & OFF), 970 West 190th Street, Suite 580, Torrance, CA 90502. Officers: Yoji Kurita, President/Secretary/Treasurer (QI), Akira Tsuneda, Director. Application Type: Add Trade Name of NTL Cargo One.

By the Commission.
Dated: September 7, 2012.
Rachel E. Dickon,
Assistant Secretary.

[FR Doc. 2012-22498 Filed 9-12-12; 8:45 am]

BILLING CODE 6730-01-P